INTERNATIONAL TRADE COMMISSION

[Inv. No. 337-TA-617]

In the Matter of Certain Digital Television Products and Certain Products Containing Same and Methods of Using Same; Notice of Commission Determination to Rescind a Limited Exclusion Order and Cease and Desist Orders as to Certain Respondents

AGENCY: U.S. International Trade Commission.

ACTION: Notice.

SUMMARY: Notice is hereby given that the U.S. International Trade Commission has determined to rescind the limited exclusion order and cease and desist orders issued in the above-captioned investigation as to TPV Technology, Ltd.; TPV International (USA), Inc.; Top Victory Electronics (Taiwan) Co., Ltd.; and Envision Peripherals, Inc. (collectively, “the TPV respondents”) based on a settlement agreement.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 15, 2007, based on a complaint filed by Funai Electric Co., Ltd. of Japan and Funai Corporation of Rutherford, New Jersey (collectively “Funai”), alleging violations of section 337 of the Tariff Act of 1930 (19 U.S.C. 1337) in the importation into the United States, the sale for importation, and the sale within the United States after importation of certain digital televisions and certain products containing same by reason of infringement of certain claims of United States Patent Nos. 5,329,369 (“the '369 patent”) and 6,115,074 (“the '074 patent”). The complaint named several respondents including the TPV respondents; and Vizio, Inc. and AmTran Technology Co., Ltd. (collectively, “the Vizio respondents).

On April 10, 2009, the Commission made its final determination in the investigation finding a violation of section 337 with regard to the '074 patent and no violation with respect to the '369 patent. The Commission issued a limited exclusion order and several cease and desist orders.

On August 9, 2010, the Commission determined to rescind the limited exclusion order and cease and desist orders as to the Vizio respondents based on a joint motion regarding a settlement between Funai and the Vizio respondents.

On December 21, 2010, the Commission modified the limited exclusion order and cease and desist orders based on a decision of the United States Court of Appeals for the Federal Circuit in Vizio, Inc. v. Int'l Trade Comm'n, 605 F.3d 1330 (Fed. Cir. 2010). On May 31, 2011, Funai and the TPV respondents filed a joint petition to rescind the modified remedial orders as to the TPV respondents. According to the joint petition, these parties have settled their dispute.

The Commission has determined that the settlement satisfies the requirement of Commission Rule 210.76 (a)(1) (19 CFR 210.76(a)(1)) that there be changed conditions of fact or law. The Commission therefore has issued an order rescinding the limited exclusion order and cease and desist orders previously issued in this investigation as to the TPV respondents. The Commission's remedial orders remain in effect against the following respondents: Syntax-Brillian Corporation; Taiwan Kolin Co., Ltd.; Proview International Holdings, Ltd.; Proview Technology (Shenzhen) Co., Ltd.; and Proview Technology, Ltd.

The authority for the Commission's determination is contained in Section 337 of the Tariff Act of 1930, as amended (19 U.S.C. 1337), and in section 210.76(a)(1) of the Commission's Rules of Practice and Procedure (19 CFR 210.76(a)(1)).

By order of the Commission.
Issued: July 13, 2011.
James R. Holbein,
Secretary to the Commission.

[FR Doc. 2011-17999 Filed 7-15-11; 8:45 am]

BILLING CODE 7020-02-P